DEPARTMENT OF TRANSPORTATION

Federal Highway Administration

[Docket No. FHWA-2006-25257]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under Supplementary Information. We are required to publish this notice in the Federal Register by the Paperwork Reduction Act of 1995.

DATES: Please submit comments by September 5, 2006.

ADDRESSES: You may submit comments identified by DOT DMS Docket Number FHWA-2006-25257 by any of the following methods:

• Web Site: http://dms.dot.gov. Follow the instructions for submitting comments on the DOT electronic docket site.

• Fax: 1-202-493-2251

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

Docket: For access to the docket to read background documents or comments received, go to http:// dms.dot.gov at any time or to Room 401 on the plaza level of the Nassif Building, 400 Seventh Street, SW., Washington, DC, between 9 a.m. and 5p.m., Monday through Friday, except Federal holidays.

FOR FURTHER INFORMATION CONTACT: James March, 202-366-9237, or William Linde, 202-366-9637, Office of Transportation Policy Studies, Federal Highway Administration, Department of Transportation, 400 Seventh Street, SW., Washington, DC 20590. Office hours are from 8 a.m. to 5 p.m., Monday through Friday, except Federal holidays.

SUPPLEMENTARY INFORMATION: Title: National Evaluation of a Mileage-Based Road User Charge.

Background: Section 1919 of The Safe, Accountable, Flexible, Efficient Transportation Equity Act: A Legacy for Users of 2005 (SAFETEA-LU) calls for a study and long-term field test of a new mechanism for collecting revenues to fund State and Federal highway programs. This would be an alternative to the fuel tax that currently supports highway construction programs. The legislation specifies that the study include an analysis of a long-term field test of an approach to assessing highway use fees based upon actual mileage driven by a vehicle equipped with an on-board computer for the purpose of calculating highway mileage traversed.

This study and field test build upon an earlier pooled fund study involving 15 States and the Federal Highway Administration that evaluated a range of potential alternatives to the motor fuel tax for financing highway improvement programs. The alternative recommended at the end of that study was a mileage-based tax that: (1) Would utilize Global Positioning System (GPS) and other technologies expected to be deployed for intelligent transportation systems or other purposes; (2) would allow attribution of mileage and tax revenues to different taxing jurisdictions; (3) would be seamless to the user; and (4) would emphasize privacy considerations that were found to be so important to highway users.

During the pooled fund study it was recognized that any new taxing mechanism would require extensive field-testing to evaluate user acceptance. This study will include 200-250 participants per year in each of six geographic regions of the country. Persons selected to participate in the field-testing will have agreed to have the necessary on-board computer technology installed in their personal vehicles for testing the mileage data collection technology. Field-testing will be conducted over two years with a new set of participants in each year—1,200 in the first year and 1,500 in the second. The participants will be asked to provide information every two months over the course of their participation in the field test in order to collect data that provides for an analysis of participant opinion on different aspects of the field test, such as privacy of data, level of detail of data transmitted to collection center, billing transmittal, among others. The participants will have a choice of providing their information by means of telephone, Internet or printed survey.

Respondents: Approximately 1,200 field-test participants in the first year of field-testing and 1,500 in the second year—total of approximately 2,700 over the two year field testing period.

Frequency: Every two months of the field-test period—six collections from each participant.

Estimated Average Burden per Response: Approximately 15 minutes during field-testing and 30 minutes for the final collection as the participant exits field-testing. Approximately 2 hours per participant over a year.

Estimated Total Annual Burden Hours: Approximately 2,400 hours in the first year and 3,000 in the second year.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

James R. Kabel,
Chief, Management Programs and Analysis Division.

[FR Doc. E6-10470 Filed 7-3-06; 8:45 am]

BILLING CODE 4910-13-P